ENVIRONMENTAL PROTECTION AGENCY

[FRL-7792-6]

Notice of a Public Meeting To Discuss Regulatory Determinations for the Second Contaminant Candidate List (CCL 2) and Updates for Unregulated Contaminant Monitoring and the CCL 3

AGENCY: Environmental Protection Agency.

ACTION: Notice of a public meeting.

SUMMARY: The Environmental Protection Agency (EPA) is holding a public meeting to discuss the status and process of making regulatory determinations for contaminants on the second drinking water Contaminant Candidate List (CCL 2). The Agency will discuss its preliminary approach to evaluate contaminants on the CCL 2 and obtain input from meeting participants about the process before making and publishing preliminary regulatory determinations. In addition to discussions about the second round of regulatory determinations, the Agency also plans to provide updates on the Unregulated Contaminant Monitoring project and the Agency's initial efforts in developing the third Contaminant Candidate List (CCL 3).

DATES: The stakeholder meeting will be held from 9 a.m. to 4 p.m. (e.d.t.), on Wednesday, September 15, 2004.

ADDRESSES: The meeting will be held on the first floor of the East Building of EPA Headquarters in Room 1153. The address is EPA East, 1201 Constitution Ave., NW., Washington, DC. The main entrance to the building on Constitution Ave. is a short distance from the Federal Triangle Metro Station, which is located on 12th Street between Constitution and Pennsylvania Aves. and is served by the Blue and Orange Lines. You will need to present a photo I.D. at the security desk when entering the building.

FOR FURTHER INFORMATION CONTACT: For technical inquiries regarding EPA's Regulatory Determinations for contaminants on CCL 2 contact: Ms. Wynne Miller at (202) 564-4887 or by e-mail: miller.wynne@epa.gov; or Mr. Brian Rourke at (202) 564-5241 or by e-mail: rourke.brian@epa.gov. For technical inquiries regarding EPA's Unregulated Contaminant Monitoring contact: Mr. Dan Hautman at (513) 569-7274 or by e-mail: hautman.dan@epa.gov. For technical inquiries regarding EPA's initial efforts in developing the CCL 3 contact: Mr. Tom Carpenter at (202) 564-4885 or by e-mail: carpenter.thomas@epa.gov; or Ms. Yvette Selby (202) 564-5245 or by e-mail: selby.yvette@epa.gov. Additional information on these and other EPA activities under the Safe Drinking Water Act is available at the Safe Drinking Water Hotline at (800) 426-4791.

For registration and general information about this meeting, please contact Ms. Rose Odom at Environomics, Inc., 4405 East-West Highway, Suite 307, Bethesda, Maryland, 20814; by phone at (301) 657-7762, extension 14; by fax at (301) 657-9025; or by e-mail at odom@environomics.com.

SUPPLEMENTARY INFORMATION: The purpose of the public meeting is to obtain input from meeting participants about EPA's regulatory determination process before the Agency makes and publishes its preliminary regulatory determinations, as required under the Safe Drinking Water Act (SDWA). SDWA directs the Agency to select five or more contaminants from the CCL and determine whether or not to regulate these contaminants with a National Primary Drinking Water Regulation (NPDWR). EPA published the first CCL containing 60 contaminants in 1998 and made final regulatory determinations for 9 contaminants on the CCL in 2003. On April 2, 2004, EPA announced its preliminary decision to carry over the remaining 51 contaminants on the 1998 CCL as the draft CCL 2. EPA must make regulatory determinations for at least five contaminants on the second CCL by August 2006.

The Agency also plans to provide updates on the Unregulated Contaminant Monitoring project and the Agency's initial efforts in developing the third Contaminant Candidate List (CCL 3).

Those registered by September 3rd will receive background materials prior to the meeting. Please note that attendees will be required to pass through security checks at the front desk and obtain a visitor's badge. Pre-registration for this meeting will help us facilitate your check-in.

The meeting will be held in a building which is accessible to persons using wheel chairs or scooters. Any person needing special accommodations at this meeting, including wheel chair or scooter access, should contact Ms. Rose Odom at Environomics (contact information provided in the previous section) at least 5 business days before the meeting so that the Agency can make appropriate arrangements.

Dated: July 22, 2004.
Cynthia C. Dougherty,
Director, Office of Ground Water and Drinking Water.

[FR Doc. 04-17306 Filed 7-28-04; 8:45 am]

BILLING CODE 6560-50-P